DEPARTMENT OF THE INTERIOR

National Park Service

[NPS-WASO-NRNHL-DTS#-27470; PPWOCRADI0, PCU00RP14.R50000]

National Register of Historic Places; Notification of Pending Nominations and Related Actions

AGENCY: National Park Service, Interior.

ACTION: Notice.

SUMMARY: The National Park Service is soliciting comments on the significance of properties nominated before March 9, 2019, for listing or related actions in the National Register of Historic Places.

DATES: Comments should be submitted by April 5, 2019.

ADDRESSES: Comments may be sent via U.S. Postal Service and all other carriers to the National Register of Historic Places, National Park Service, 1849 C St. NW, MS 7228, Washington, DC 20240.

SUPPLEMENTARY INFORMATION: The properties listed in this notice are being considered for listing or related actions in the National Register of Historic Places. Nominations for their consideration were received by the National Park Service before March 9, 2019. Pursuant to Section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Larimer County

Dunraven Cottage-Camp Dunraven, 898 Fish Creek Rd., Estes Park vicinity, SG100003644

Mineral County

Wagon Wheel Gap Fluorspar Mine and Mill (Mining Industry in Colorado, MPS), 1 Goose Creek Rd., Creede vicinity, MP100003643

ILLINOIS

Cook County

Leaning Tower of Niles, The 6280 W Touhy Ave., Niles, SG100003645

Forum, The 318-328 E 43rd St., Chicago, SG100003646

Edgar County

Paris High School and Gymnasium, 309 S Main St., Paris, SG100003647

Kane County

Copley Hospital, 301 Weston Ave., Aurora, SG100003648

Lake County

Frederick, Louis, House, 19 W County Line Rd., Barrington Hills, SG100003649

MARYLAND

Baltimore County

Lime Kiln Bottom, 2177 Cromwell Bridge Rd., Parkville, SG100003655

Frederick County

Oakland, 1902 Jefferson Pike, Knoxville, SG100003656

NEW YORK

Albany County

Normanskill Farm, 5 Mill Rd., Albany, SG100003625

Chenango County

Willcox, Hazard Jr., Farm, 549 Co. Rd. 14, Earlville, SG100003626

Franklin County

Hotel Saranac, 100 Main St., Saranac Lake, SG100003627

Montgomery County

St. Johnsville Historic District, Generally E & W Main, N & S Division, Bridge, Lion, Falling, Monroe, Center, Kingsbury, Church, William, Hough & Sanders Sts., St. Johnsville, SG100003628

Onondaga County

North Salina Street Historic District (Boundary Increase), Portions of Ash, Butternut, Catawba, E Laurel, E Willow, Pearl, & N Salina Sts.; E Belden & Gephardt Aves., Syracuse, BC100003623

Rensselaer County

Rensselaer Society of Engineers House, 1501 Sage Ave., Troy, SG100003629

Schoharie County

Schoharie Village Historic District, Portions of Main, Bridge, Fair, Grand, Orchard & Prospect Sts., Fort Rd., Academy, Furman & Sunset Drs., Birchez, Depot, Estenes, Mix & Quilt Lns., Johnson, Knower & Shannon Aves., Schoharie, SG100003624

Vroman, Col. Peter, House, 112 Covered Bridge Rd., Schoharie, SG100003630

Ulster County

Ashokan Field Campus Historic District, 477 Beaverkill Rd., Olive Bridge, SG100003622

Washington County

Dresden District School No. 2, North Rd., Clemons vicinity, SG100003631

Westchester County

Robinwood Historic District, Tavano & Somerstown Rds., Ossining, SG100003632

PENNSYLVANIA

Berks County

Updike, John, Childhood Home, 117 Philadelphia Ave., Shillington, SG100003635

Philadelphia County

Oaks Cloister, 5829 Wissahickon Ave. & 3 Lehman Ln., Philadelphia, SG100003636

WISCONSIN

Jefferson County

Lake Mills Downtown Commercial Historic District, 102-131 E Lake, 113-203 W Lake, 103-211 N Main & 101-202 S Main Sts., Lake Mills, SG100003634

Owner objections have been received for the following resources:

CALIFORNIA

Los Angeles County

Mirlo Gate Lodge Tower, 4420 Via Valmonte, Palos Verdes Estates, SG100003633

Santa Clara County

Air Base Laundry, 954 Villa St., Mountain View, SG100003641

Weilheimer, Julius, House, 938 Villa St., Mountain View, SG100003642

Additional documentation has been received for the following resources:

ARIZONA

Maricopa County

Town and Country Scottsdale Residential Historic District, 2218 N 72nd Pl. & 7307 E Cypress St., Scottsdale, AD09000694

Willo Historic District, 25 W. Wilshire Dr., Phoenix, AD90002099

Pima County

San Clemente Historic District, 3934 S Calle de Jardin, Tucson, AD04001156

Winterhaven Historic District, 3518 N Fox Ave., Tucson, AD05001466

Nomination submitted by Federal Preservation Officer:

The State Historic Preservation Officer reviewed the following nomination and responded to the Federal Preservation Officer within 45 days of receipt of the nomination and supports listing the property in the National Register of Historic Places.

MICHIGAN

Monroe County

River Raisin Battlefield Site (Boundary Increase), 1403 E Elm Ave., Monroe vicinity, BC100003658

Authority: Section 60.13 of 36 CFR part 60.

Dated: March 11, 2019.
Kathryn G. Smith,
Acting Chief, National Register of Historic Places/National Historic Landmarks Program.

[FR Doc. 2019-05358 Filed 3-20-19; 8:45 am]

BILLING CODE 4312-52-P